DEPARTMENT OF HOMELAND SECURITY

Coast Guard

33 CFR Part 165

[Docket No. USCG-2019-0236]

Safety Zone; Pittsburgh Pirates Fireworks, Allegheny River, Pittsburgh, PA

AGENCY: Coast Guard, DHS.

ACTION: Notice of enforcement of regulation.

SUMMARY: The Coast Guard will enforce safety zones for the Pittsburgh Pirates Fireworks on the Allegheny River, extending the entire width of the river, from mile 0.2 to 0.9 in Pittsburgh, PA. The safety zones are necessary to protect vessels transiting the area and event spectators from the hazards associated with the Pittsburgh Pirates barge-based firework displays following certain home games throughout the season. During the enforcement period, entry into, transiting, or anchoring in the safety zones is prohibited to all vessels not registered with the sponsor as participants or official patrol vessels, unless specifically authorized by the Captain of the Port Marine Safety Unit Pittsburgh (COTP) or a designated representative.

DATES: The regulations in 33 CFR 165.801, Table 1, Line 1 will be enforced from 8 p.m. through 11:59 p.m. on May 4, 2019, unless the firework displays are postponed because of adverse weather, in which case, this rule will be enforced within 48 hours of the scheduled date.

FOR FURTHER INFORMATION CONTACT: If you have questions about this notice of enforcement, call or email MST1 Jennifer Haggins, Marine Safety Unit Pittsburgh, U.S. Coast Guard; telephone 412-221-0807, email Jennifer.L.Haggins@uscg.mil.

SUPPLEMENTARY INFORMATION: The Coast Guard will enforce the safety zones for the annual Pittsburgh Pirates Fireworks listed in 33 CFR 165.801, Table 1, line 1 from 8 p.m. through 11:59 p.m. on May 4, 2019. Should inclement weather require rescheduling, the safety zone will be effective following the game on a rain date to occur within 48 hours of the scheduled date. Entry into the safety zone is prohibited to all vessels not registered with the sponsor as participants or official patrol vessels, unless authorized by the Captain of the Port Marine Safety Unit Pittsburgh (COTP) or a designated representative. Persons or vessels desiring to enter into or pass through the safety zone must request permission from the COTP or a designated representative. If permission is granted, all persons and vessels shall comply with the instructions of the COTP or designated representative.

This notice of enforcement is issued under authority of 33 CFR 165.801 and 5 U.S.C. 552(a). In addition to this notice of enforcement in the Federal Register, the Coast Guard will provide the maritime community with advance notification of these enforcement periods via Local Notice to Mariners and updates via Marine Information Broadcasts.

Dated: April 22, 2019.
A.W. Demo,
Commander, U.S. Coast Guard, Captain of the Port Marine Safety Unit Pittsburgh.

[FR Doc. 2019-08403 Filed 4-25-19; 8:45 am]

BILLING CODE 9110-04-P